DEPARTMENT OF HEALTH AND HUMAN SERVICES

Administration for Children and Families

Submission for OMB Review; Comment Request

Title: Community Based Family Resource and Support Program

OMB No.: 0970-0155.

Description: The Program Instruction, prepared in response to the enactment of the Community-Based Family Resource and Support Grants (CBFRS), as set forth in Title II of Public Law 104-235, Child Abuse Prevention and Treatment Act Amendments of 1996, and in the process of reauthorization, provides direction to the States and Territories to accomplish the purposes of (1) supporting State efforts to develop, operate, expand and enhance a network of community-based, prevention focused, family resource and support programs that coordinate resources among existing human service organizations within the State; and (2) fostering an understanding, appreciation, and knowledge of diverse populations in order to be effective in preventing and treating child abuse and neglect. This Program Instruction contains information collection requirements that are found in Public Law 104-235 at sections 202(1)(A); 202(q)(B); 203(b)(1)(B); 205; 207; and pursuant to receiving a grant award. The information submitted will be used by the agency to ensure compliance with the statute, complete the calculation of the grant award entitlement, and provide training and technical assistance to the grantee.

Respondents: State Government.

Annual Burden Estimates
Instrument | Number of respondents | Number of responses per respondent | Average burden hours per response | Total burden hours
Application | 52 | 1 | 40 | 2080
Annual Report | 52 | 1 | 24 | 1248
Estimated Total Annual Burden Hours |  |  |  | 3328

Additional Information

Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: February 6, 2002.
Bob Sargis,
Reports Clearance Officer.

[FR Doc. 02-3349 Filed 2-11-02; 8:45 am]

BILLING CODE 4184-01-M